DEPARTMENT OF TRANSPORTATION

Research and Special Programs Administration

Office of Hazardous Materials Safety Notice of Delays in Processing of Exemption Applications

AGENCY: Research and Special Programs Administration, DOT.

ACTION: List of applications delayed more than 180 days.

SUMMARY: In accordance with the requirements of 49 U.S.C. 5117(c), RSPA is publishing the following list of exemption applications that have been in process for 180 days or more. The reason(s) for delay and the expected completion date for action on each application is provided in association with each identified application.

FOR FURTHER INFORMATION CONTACT: J. Suzanne Hedgepeth, Director, Office of Hazardous Materials, Exemptions and Approvals, Research and Special Programs Administration, U.S. Department of Transportation, 400 Seventh Street, SW., Washington, DC 20590-0001, (202) 366-4535.

Key to “Reasons for Delays”

1. Awaiting additional information from applicant

2. Extensive public comment under review

3. Application is technically complex and is of significant impact or precedent-setting and requires extensive analysis

4. Staff review delayed by other priority issues or volume of exemption applications

Meaning of Application Number Suffixes

N—New application

M—Modification request

PM—Party to application with modification request

Dated: Issues in Washington, DC, on October 10, 2002.
J. Suzanne Hedgepeth,
Director, Office of Hazardous Materials Exemptions and Approvals.

Application No. | Applicant | Reason for delay | Estimated date of completion
New Exemption Application
11862-N | The BOC Group, Murray Hill, NJ | 4 | 12/31/2002
11927-N | Alaska Marine Lines, Inc., Seattle, WA | 4 | 12/31/2002
12381-N | Ideal Chemical & Supply Co., Memphis, TN | 4 | 12/31/2002
12412-N | Great Western Chemical Company, Portland, OR | 4 | 11/29/2002
12440-N | Luxfer Inc., Riverside, CA | 4 | 12/31/2002
12571-N | Air Products & Chemicals, Inc., Allentown, PA | 4 | 11/29/2002
12648-N | Stress Engineering Services, Inc., Houston, TX | 4 | 12/31/2002
12701-N | Fuel Cell Components & Integrators, Inc., Hauppauge, NY | 1 | 11/29/2002
12706-N | Raufoss Composites AS, Raufoss, NO | 4 | 11/29/2002
12715-N | Arkansas Eastman Division, Eastman Chemical Co., Batesville, AR | 4 | 11/29/2002
12718-N | Weldship Corporation, Bethlehem, PA | 4 | 11/29/2002
12751-N | Defense Technology Corporation, Casper, WY | 4 | 11/29/2002
12843-N | United States Enrichment Corporation, Bethesda, MD | 4 | 11/29/2002
12859-N | Atlantic Research Corporation, Gainesville, VA | 4 | 11/29/2002
12867-N | G.L.I. Citergaz, 964 Civray, FR | 1 | 12/31/2002
12902-N | C&S Railroad Corp., Jim Thorpe, PA | 4 | 12/31/2002
12921-N | GATX Rail, Chicago, IL | 4 | 12/29/2002
12929-N | Matheson Tri-Gas, East Rutherford, NJ | 4 | 11/29/2002
12941-N | The Neiman Marcus Group, Longview, TX | 4 | 11/29/2002
12950-N | Walnut Industries, Inc., Bensalem, PA | 4 | 11/29/2002
12960-N | International Fuel Cells, South Windsor, CT | 4 | 11/29/2002
12966-N | Scientific Cylinder Corporation, Englewood, CO | 4 | 11/29/2002
12973-N | Viking Packing Specialist, Tulsa, OK | 4 | 11/29/2002
12990-N | Technifab Products, Inc., Brazil, IN | 4 | 12/31/2002
12991-N | General Plastics Manufacturing Company, Tacoma, WA | 4 | 12/31/2002
4453-M | Dyno Nobel, Inc., Salt Lake City, UT | 4 | 12/31/2002
4884-M | Matheson Tri-Gas East Rutherford, NJ | 4 | 11/29/2002
7060-M | Federal Express Memphis, TN | 4 | 12/31/2002
7277-M | Structural Composites Industries, Pomona, CA | 4 | 12/31/2002
8162-M | Structural Composites Industries Pomona, CA | 4 | 12/31/2002
8308-M | Tradewind Enterprises, Inc., Hillsboro, OR | 4 | 10/31/2002
8308-M | American Courier Express Corporation, Miramar, FL | 4 | 10/31/2002
8495-M | Kidde Aerospace, Wilson, NC | 4 | 11/29/02
8718-M | Structural Composities Industries, Pomona, CA | 4 | 12/31/2002
8723-M | Dyno Nobel, Inc., Salt Lake City, UT | 4 | 12/31/2002
10019-M | Structural Composites Industries, Pomona, CA | 4 | 12/31/2002
10440-M | MASS Systems (A Unit of Ameron Global, Inc.), Baldwin Park, CA | 4 | 10/31/2002
10751-M | Dyno Nobel, Inc., Salt Lake City, UT | 4 | 12/31/2002
11194-M | Carleston Technologies Inc, Pressure Technology Div, Glen Burnie, MD | 4 | 11/29/2002
11327-M | Phoenix Services, Inc., Pasadena, MD | 1 | 11/29/2002
11537-M | JCI Jones Chemicals, Inc., Milford, VA | 4 | 12/31/2002
11579-M | Dyno Nobel, Inc., Salt Lake City, UT | 4 | 12/31/2002
11769-M | Great Western Chemical Company, Portland, OR | 4 | 12/31/2002
11769-M | Great Western Chemical Company, Portland, OR | 4 | 12/31/2002
11769-M | Hydrite Chemical Company, Brookfield, WI | 4 | 12/31/2002
11791-M | The Coleman Company, Inc., Wichita, KS | 4 | 12/31/2002
11850-M | Air Transport Association, Washington, DC | 4 | 11/29/2002
11860-M | GATX Rail, Chicago, IL | 4 | 12/31/2002
11911-M | Transfer Flow, Inc., Chico, CA | 4 | 12/31/2002
19111-M | Transfer Flow, Inc., Chico, CA | 4 | 12/31/2002
12065-M | Petrolab Company, Latham, NY | 4 | 11/29/2002
12443-M | Dow Reichhold Speciality Latex, LLC, Chickamauga, GA | 4 | 11/29/2002
12449-M | Chlorine Service Company, Inc., Kingwood, TX | 4 | 11/29/2002
12599-M | Voltaix, Inc., North Branch, NJ | 4 | 10/31/2002
12866-M | Delta Air Lines (Technical Operations Center), Atlanta, GA | 4 | 11/29/2002

[FR Doc. 02-27167 Filed 10-24-02; 8:45 am]

BILLING CODE 4910-60-M